DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a continuing information collection. In accordance with the Paperwork Reduction Act of 1995 (44 U.S.C. 3506(c)(2)(A)), this notice seeks comments concerning the Mission Assignment (MA) form that is used to record requests for Federal assistance by State and Federal entities to FEMA, and the Action Request (AR) form which is used to request Federal assistance.

SUPPLEMENTARY INFORMATION: The MA form is necessary to support the Robert T. Stafford Disaster Relief and Emergency Assistance Act, Public Law 93-288, as amended, 42 U.S.C. 5121 et seq., and its implementing regulations in 44 CFR part 206. Specifically, 44 CFR 206.7 provides for FEMA to issue mission assignments for disaster work performed by other Federal agencies. A written request for Federal assistance may be submitted on an Action Request form (AR). The AR form is the working document requesting federal assistance. The mission assignments are directives provided by FEMA to another agency to perform specific work in disaster operations on a reimbursable basis and are defined in 44 CFR 206.2(a)(18). The MA form is used to record a request for Federal assistance by States and Federal entities to FEMA, and may become the official FEMA obligating document when a mission assignment to another Federal agency results from the request. The MA form contains information that is used by FEMA management to evaluate requests for assistance from States, other Federal agencies and internal FEMA organizations. The requirement that requests for assistance to be made in writing and approved by the requesting State can be found in 44 CFR 206.8. Requirements for program and finance officials to sign for the approval of funds from the President's Disaster Relief Fund are found in standard Federal financial regulations regarding financial operations and separation of duties.

Collection of Information

Title: Request for Federal Assistance Form—How to Process Mission Assignments in Federal Disaster Operations.

Type of Information Collection: Revision of a currently approved collection.

OMB Number: 1660-0047.

Form Numbers: FEMA Form 90-129, Mission Assignment (MA), and FEMA Form 90-136, Action Request (AR).

Abstract: The MA form is used to record a request for Federal assistance by States and Federal entities to FEMA, and may become the official FEMA obligating document if a mission assignment to another Federal agency results from the request. Mission assignments are directives provided by FEMA to another agency to perform specific work in disaster operations, on a reimbursable basis and are defined in the 44 CFR 206.2(a)(18) and to record Federal approving signatures.

A written request for Federal assistance may be submitted on an Action Request (AR) form. The AR form is the working document requesting Federal assistance.

Affected Public: State, local or tribal governments and Federal Government.

Estimated Total Annual Burden Hours: 1,739 hours.

Data collection activity/instrument | No. of respondents | Frequency of responses: *Number of responses × 35 disasters per year | Hour burden per response | Annual responses | Total annual burden hours
| A | B | C | D = A × B | E = C × D
FEMA Form 90-129, Mission Assignment Form | 56 | *35 × 2 = 70 | 3 minutes (0.05) | 3,920 | 196
FEMA Form 90-136, Action Request Form | 56 | *35 × 1 = 35 | 20 minutes (0.33) | 1,960 | 647
Training | 56 | 1 | 8 hours | 448 | 896
Total |  |  | 8 hours 23 minutes | 6,328 | 1,739

Estimated Cost: Cost to respondent is estimated to be approximately $61,195.41 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received on or before October 9, 2007.

ADDRESSES: Interested persons should submit written comments to Chief, Records Management and Privacy, Office of Management Directorate, Information Technology Services Division, Information Resources Management Branch, Federal Emergency Management Agency, Department of Homeland Security, 500 C. Street, SW., Room 609, Washington, DC 20472.

FOR FURTHER INFORMATION CONTACT: Bob Power, Branch Chief, Operations Branch at 202-646-7596 for additional information. You may contact the Records Management Branch for copies of the proposed collection of information at facsimile number (202) 646-3347 or e-mail at FEMA-Information-collections@dhs.gov.

Dated: July 31, 2007.
John A. Sharetts-Sullivan,
Chief, Records Management and Privacy, Office of Management Directorate, Federal Emergency Management Agency, Department of Homeland Security.

[FR Doc. E7-15440 Filed 8-7-07; 8:45 am]

BILLING CODE 9110-10-P